DEPARTMENT OF ENERGY

Federal Energy Regulatory Commission

Combined Notice of Filings #1

Take notice that the Commission received the following electric corporate filings:

Docket Numbers: EC13-97-000.

Applicants: Calpine Construction Finance Company, L.P., Osprey Energy Center, LLC, CCFC Sutter Energy, LLC, Westbrook Energy Center, LLC.

Description: Joint Application For Approval under Section 203 of the Federal Power Act and Request for Expedited Action of Calpine Construction Finance Company, L.P., et al.

Filed Date: 4/25/13.

Accession Number: 20130425-5222.

Comments Due: 5 p.m. ET 5/16/13.

Take notice that the Commission received the following exempt wholesale generator filings:

Docket Numbers: EG13-30-000.

Applicants: Gainesville Renewable Energy Center.

Description: Self-Certification of Exempt Wholesale Generator Status of Gainesville Renewable Energy Center, LLC.

Filed Date: 4/25/13.

Accession Number: 20130425-5162.

Comments Due: 5 p.m. ET 5/16/13.

Take notice that the Commission received the following electric rate filings:

Docket Numbers: ER10-1894-005; ER10-1901-006; ER10-1882-002; ER10-3025-002; ER10-3036-002; ER10-3039-002; ER10-3042-002.

Applicants: Wisconsin Public Service Corporation, Upper Peninsula Power Company, Wisconsin River Power Company, Integrys Energy Services, Inc., WPS Power Development, LLC, Quest Energy, LLC, Combined Locks Energy Center, LLC.

Description: Notice of Change in Status of Wisconsin Public Service Corporation, et al.

Filed Date: 4/26/13.

Accession Number: 20130426-5156.

Comments Due: 5 p.m. ET 5/17/13.

Docket Numbers: ER11-4267-006; ER11-4270-006; ER11-4269-007; ER11-4268-006; ER11-113-007; ER10-2682-006; ER12-1680-004; ER11-4694-003.

Applicants: Algonquin Energy Services Inc., Algonquin Power Windsor Locks LLC, Algonquin Tinker Gen Co., Algonquin Northern Maine Gen Co., Sandy Ridge Wind, LLC, Granite State Electric Company, Minonk Wind, LLC, GSG 6, LLC.

Description: Notice of Change in Status of Algonquin Energy Services Inc., et al.

Filed Date: 4/26/13.

Accession Number: 20130426-5126.

Comments Due: 5 p.m. ET 5/17/13.

Docket Numbers: ER13-1341-000.

Applicants: Air Energy TCI, Inc.

Description: Air Energy TCI, Inc. submits Petition for Waiver of Tariff Requirements, and Request for Shortened Notice Period and Expedited Review.

Filed Date: 4/25/13.

Accession Number: 20130425-5143.

Comments Due: 5 p.m. ET 5/10/13.

Docket Numbers: ER13-1346-000

Applicants: Mesa Wind Power Corporation.

Description: MBR Tariff to be effective 4/29/2013.

Filed Date: 4/26/13.

Accession Number: 20130426-5001.

Comments Due: 5 p.m. ET 5/17/13.

Docket Numbers: ER13-1347-000.

Applicants: MeadWestvaco Coated Board, LLC.

Description: MeadWestvaco Coated Board, LLC submits tariff filing per 35.12: MeadWestvaco Coated Board, LLC MBR application package to be effective 9/1/2013.

Filed Date: 4/26/13.

Accession Number: 20130426-5079.

Comments Due: 5 p.m. ET 5/17/13.

Docket Numbers: ER13-1348-000.

Applicants: Gainesville Renewable Energy Center.

Description: Rate Schedule No. 1 to be effective 4/26/2013.

Filed Date: 4/26/13.

Accession Number: 20130426-5133.

Comments Due: 5 p.m. ET 5/17/13.

Docket Numbers: ER13-1349-000.

Applicants: WSPP Inc.

Description: WSPP Inc. submits tariff filing per 35.13(a)(2)(iii: Revisions to List of Members to be effective 5/9/2013.

Filed Date: 4/26/13.

Accession Number: 20130426-5154.

Comments Due: 5 p.m. ET 5/17/13.

Docket Numbers: ER13-1350-000.

Applicants: Southwest Power Pool, Inc.

Description: 2198R6 Kansas Power Pool NITSA and NOA to be effective 4/1/2013.

Filed Date: 4/26/13.

Accession Number: 20130426-5175.

Comments Due: 5 p.m. ET 5/17/13.

Docket Numbers: ER13-1351-000.

Applicants: Florida Power Development LLC.

Description: Florida Power Development LLC submits tariff filing per 35.12: Florida Power Development LLC Market-Based Rate Application to be effective 6/25/2013.

Filed Date: 4/26/13.

Accession Number: 20130426-5214.

Comments Due: 5 p.m. ET 5/17/13.

Take notice that the Commission received the following electric reliability filings:

Docket Numbers: RR13-5-000.

Applicants: North American Electric Reliability Corporation.

Description: Petition of the North American Electric Reliability Corporation for Approval of Amendments to Delegation Agreement with Midwest Reliability Organization—Amendments to the MRO Regional Reliability Standards Process Manual.

Filed Date: 4/26/13.

Accession Number: 20130426-5142.

Comments Due: 5 p.m. ET 5/17/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 26, 2013.
Nathaniel J. Davis, Sr.,
Deputy Secretary.

[FR Doc. 2013-10469 Filed 5-2-13; 8:45 am]

BILLING CODE 6717-01-P